NATIONAL SCIENCE FOUNDATION

Committee Management; Renewal

The NSF management officials having responsibility for the Business and Operations Advisory Committee (#9556) have determined that renewing this group for another year is necessary and in the public interest in connection with the performance of duties imposed upon the Director, National Science Foundation by 42 U.S.C. 1861 et seq. This determination follows consultation with the Committee Management Secretariat, General Services Administration.

For more information contact Susanne Bolton at (703) 292-7488.

Dated: November 21, 2002.
Susanne Bolton,
Committee Management Officer.

[FR Doc. 02-29974 Filed 11-25-02; 8:45 am]

BILLING CODE 7555-01-M